DEPARTMENT OF COMMERCE

Bureau of Export Administration

[Docket No. 010412092-1092-01]

Initiation of National Security Investigation of Imports of Iron Ore and Semi-Finished Steel, Re-Opening of Public Comment Period

AGENCY: Bureau of Export Administration, Department of Commerce.

ACTION: Notice of initiation of National Security Investigation, re-opening of public comment period.

SUMMARY: Pursuant to public request, the Bureau of Export Administration (BXA) is re-opening its public comment period until May 2, 2001, for the Notice of initiation of National Security Investigation and Request for Public Comments, published on February 6, 2001.

DATES: Comments must be received by May 2, 2001.

ADDRESSES: Send three copies of written comments to Brad Botwin, Director, Strategic Analysis Division, Bureau of Export Administration, U.S. Department of Commerce, Room 3876, Washington, DC 20230.

FOR FURTHER INFORMATION CONTACT: Brad Botwin, Director, Strategic Analysis Division, Bureau of Export Administration, U.S. Department of Commerce, (202) 482-4060, bbotwin@bxa.doc.gov or Michael Vaccaro, Trade and Industry Analyst, Bureau of Export Administration, U.S. Department of Commerce, (202) 482-8232, mvaccaro@bxa.doc.gov. For more information about the section 232 program, including the applicable Commerce Department regulations and the text of previous investigations, see www.doc-bxa.bmpcoe.org under “Programs.”

SUPPLEMENTARY INFORMATION: On February 6, 2001, BXA published a Notice of Initiation of National Security Investigation and Request for Public Comments (66 FR 9067) announcing the initiation of an investigation under section 232 of the Trade Expansion Act of 1962, as amended (19 U.S.C. 1862), to determine the effects on the national security of imports of iron ore and semi-finished steel. The notice also requested public comments on the investigation; the closing day for the comment period was April 9, 2001. In response to requests received from interested parties, BXA is re-opening the original 60 day public comment period until May 2, 2001. As a result, comments on the investigation must now be received by May 2, 2001. Comments received after April 9, 2001 and before the date of this notice will be accepted and considered by BXA.

Dated: April 12, 2001.
Matthew Borman,
Deputy Assistant Secretary for Export Administration.

[FR Doc. 01-9611 Filed 4-17-01; 8:45 am]

BILLING CODE 3510-JT-P